ENVIRONMENTAL PROTECTION AGENCY

40 CFR Parts 152 and 158

[0PP-2002-0171; FRL-6818-4]

RIN 2070-AC12 and 2070-AD47

Pesticide Registration Data Requirements; Notification to the Secretary of Agriculture

AGENCY: Environmental Protection Agency (EPA).

ACTION: Notification to the Secretary of Agriculture.

SUMMARY: This document notifies the public that the Administrator of EPA has forwarded to the Secretary of Agriculture a draft proposed rule as required by section 25(a) of the Federal Insecticide, Fungicide, and Rodenticide Act (FIFRA). The draft proposed rule would update data requirements for conventional pesticide products to reflect current scientific knowledge and understanding and to support the Agency's mandate to better protect sensitive subpopulations from pesticide risks. The proposal would also codify existing data requirements that are applied on a case-by-case basis. Please note that the draft proposed rule is not currently publicly available. It will only become publicly available when the proposed rule is signed, at which time it will be published in the Federal Register.

FOR FURTHER INFORMATION CONTACT: Melissa Chun, Field and External Affairs Division (7506C), Office of Pesticide Programs, Environmental Protection Agency, 1200 Pennsylvania Ave., NW., Washington DC 20460; telephone number: 703-305-4027; e-mail address: chun.melissa@epa.gov.

SUPPLEMENTARY INFORMATION:

I. General Information

A. Does This Action Apply to Me?

This action is directed to the public in general. It simply announces the submission of a draft proposed rule to USDA and does not otherwise affect any specific entities. This action may, however, be of particular interest to persons who register pesticides under the Federal Insecticide, Fungicide, and Rodenticide Act (FIFRA) or who seek a tolerance or tolerance exemption for a pesticide under the Federal Food, Drug and Cosmetic Act (FFDCA). Since other entities may also be interested, the Agency has not attempted to describe all the specific entities that may be interested in this action. If you have any questions regarding the this action, consult the person listed under FOR FURTHER INFORMATION CONTACT.

B. How Can I Get Additional Information?

Electronically. You may obtain electronic copies of this Federal Register document from the EPA Internet Home Page at http://www.epa.gov/. To access this document, on the Home Page select “Laws and Regulations,” “Regulations and Proposed Rules,“ and then look up the entry for this document under the “Federal Register—Environmental Documents.” You can also go directly to the Federal Register listings at http://www.epa.gov/fedrgstr/. Please note that the draft proposed rule is not currently publicly available. It will only become publicly available when the proposed rule is signed, at which time it will published in the Federal Register.

II. What Action Is EPA Taking?

Section 25(a)(2) of FIFRA requires the Administrator to provide the Secretary of Agriculture with a copy of any proposed regulation at least 60 days before signing it for publication in the Federal Register. The draft proposed rule is not available to the public until after it has been signed by EPA. If the Secretary comments in writing regarding the draft proposed rule within 30 days after receiving it, the Administrator shall include the comments of the Secretary and the Administrator's response to those comments in the proposed rule when published in the Federal Register. If the Secretary does not comment in writing within 30 days after receiving the draft proposed rule, the Administrator may sign the proposed regulation for publication in the Federal Register anytime after the 30-day period.

III. Do Any Regulatory Assessment Requirements Apply to This Notification?

No. this document is not a proposed rule, it is merely a notification of submission to the Secretary of Agriculture. As such, none of the regulatory assessment requirements apply to this document.

List of Subjects in 40 CFR Parts 152 and 158

Environmental protection, Administrative practice and procedure, Agricultural commodities, Pesticides and pests, Reporting and recordkeeping requirements.

Dated: August 28, 2002.
Marcia E. Mulkey,
Director, Office of Pesticide Programs.

[FR Doc. 02-22730 Filed 9-5-02; 8:45 am]

BILLING CODE 6560-50-S